DEPARTMENT OF TRANSPORTATION

Federal Aviation Administration

14 CFR Part 39

[Docket No. 2001-SW-29-AD; Amendment 39-12443; AD 2001-13-51]

RIN 2120-AA64

Airworthiness Directives; Bell Helicopter Textron Canada Model 206L-4, 407, and 427 Helicopters

AGENCY: Federal Aviation Administration, DOT.

ACTION: Final rule; request for comments.

SUMMARY: This document publishes in the Federal Register an amendment adopting Airworthiness Directive (AD) 2001-13-51, which was sent previously to all known U.S. owners and operators of Bell Helicopter Textron Canada (BHTC) Model 206L-4, 407, and 427 helicopters by individual letters. This AD requires visually inspecting certain driveshafts for a crack, a loose bolt or nut, or red powder residue. If a crack, a loose bolt or nut, or red powder residue is found, replacing the driveshaft before further flight and notifying the FAA within 10 days is also required. This amendment is prompted by a driveshaft failure on a BHTC Model 407 helicopter that resulted in an engine shutdown and an emergency landing. Failure of the driveshaft was due to cracking of the flexframe on the forward end of the driveshaft. In addition, three other incidents of a cracked flexframe on the forward end of the driveshaft on other Model 407 helicopters have been reported. The actions specified by this AD are intended to prevent failure of a driveshaft, loss of drive to the main rotor system, and a subsequent emergency forced landing.

DATES: Effective October 9, 2001, to all persons except those persons to whom it was made immediately effective by Emergency AD 2001-13-51, issued on June 27, 2001, which contained the requirements of this amendment.

The incorporation by reference of certain publications listed in the regulations is approved by the Director of the Federal Register as of October 9, 2001. Comments for inclusion in the Rules Docket must be received on or before November 20, 2001.

ADDRESSES: Submit comments in triplicate to the Federal Aviation Administration (FAA), Office of the Regional Counsel, Southwest Region, Attention: Rules Docket No. 2001-SW-29-AD, 2601 Meacham Blvd., Room 663, Fort Worth, Texas 76137. You may also send comments electronically to the Rules Docket at the following address: 9-asw-adcomments@faa.gov.

The applicable service information may be obtained from Bell Helicopter Textron Canada, 12,800 Rue de l'Avenir, Mirabel, Quebec J7J1R4, telephone (450) 437-2862 or (800) 363-8023, fax (450) 433-0272. The service information may also be obtained by e-mailing a request to pselight@bellhelicopter.textron.com. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Paul Madej, Aviation Safety Engineer, FAA, Rotorcraft Directorate, Rotorcraft Standards Staff, Fort Worth, Texas 76193-0110, telephone (817) 222-5125, fax (817) 222-5961.

SUPPLEMENTARY INFORMATION: On June 27, 2001, the FAA issued Emergency AD 2001-13-51 for BHTC Model 206L-4, 407, and 427 helicopters, which requires the following if driveshaft, part number 206-340-300-105, has ever been installed on a BHTC Model 407 helicopter:

• At specified hours time-in-service (TIS), visually inspect each driveshaft for a crack, a loose bolt or nut, or red powder residue.

• Before further flight, replace the driveshaft with an airworthy driveshaft if a crack, a loose bolt or nut, or red powder residue is found. Within 10 days, notify the Manager, Regulations Group, FAA, of the helicopter serial number, driveshaft serial number, and driveshaft hours TIS.

• After the effective date of this AD, interchanging a driveshaft between different helicopter models is prohibited if that driveshaft has ever been installed on a BHTC Model 407 helicopter.

That action was prompted by a driveshaft failure on a BHTC Model 407 helicopter that resulted in an engine shutdown and an emergency landing. Failure of the driveshaft was due to cracking of the flexframe on the forward end of the driveshaft. The BHTC Model 206L-4 and 427 helicopters use the same part-numbered driveshaft. In addition, three other incidents of a cracked flexframe on the forward end of the driveshaft on other Model 407 helicopters have been reported. This condition, if not detected, could result in failure of a driveshaft, loss of drive to the main rotor system, and a subsequent emergency forced landing.

Transport Canada, which is the airworthiness authority for Canada, notified the FAA that an unsafe condition may exist on BHTC Model 407 helicopters. Transport Canada advises that during flight the driveshaft, P/N 206-340-300-105, failed causing engine shutdown and a forced landing. Three other incidents of the cracked flexframe on the forward end of the BHTC Model 407 driveshafts were also reported. Pending further corrective action, Transport Canada determined that a one-time visual inspection for any obvious discrepancy of the driveshaft is warranted.

The FAA has reviewed BHTC Alert Service Bulletin No. 407-01-43, dated June 8, 2001 (ASB), which describes procedures for a one-time inspection of the engine-to-transmission driveshaft, P/N 206-340-300-105. Transport Canada classified this ASB as mandatory and issued AD CF-2001-24, dated June 11, 2001, to ensure the continued airworthiness of BHTC Model 407 helicopters in Canada.

Since the unsafe condition described is likely to exist or develop on other BHTC Model 206L-4, 407, and 427 helicopters of the same type designs, the FAA issued Emergency AD 2001-13-51 to prevent failure of a driveshaft, loss of drive to the main rotor system, and a subsequent emergency forced landing. The AD requires the actions specified above. The inspections must be accomplished in accordance with the ASB described previously. The short compliance time involved is required because the previously described critical unsafe condition can adversely affect the structural integrity and controllability of the helicopter. Therefore, visually inspecting the driveshaft at the specified time intervals and replacing the driveshaft, if necessary, is required before further flight, and this AD must be issued immediately.

Since it was found that immediate corrective action was required, notice and opportunity for prior public comment thereon were impracticable and contrary to the public interest, and good cause existed to make the AD effective immediately by individual letters issued on June 27, 2001 to all known U.S. owners and operators of BHTC Model 206L-4, 407, and 427 helicopters. These conditions still exist, and the AD is hereby published in the Federal Register as an amendment to 14 CFR 39.13 to make it effective to all persons. However, a few editorial changes have been made to the AD. The zip code listed for the manufacturer has been corrected and an e-mail address for obtaining service information has been added. Also, due to confusion expressed by an operator, paragraph (a)(1)(i) has been changed to clarify that the notification requirement is necessary only if a crack, a loose bolt or nut, or red powder residue is found during the visual inspection. The FAA has determined that these changes will neither increase the economic burden on an operator nor increase the scope of the AD

The FAA estimates that 488 helicopters of U.S. registry will be affected by this AD, that it will take approximately 4 work hours per helicopter to visually inspect the driveshaft. The average labor rate is $60 per work hour. Based on these figures, the total cost impact of the AD on U.S. operators is estimated to be $117,120, assuming that each driveshaft is inspected once.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-29-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-13-51 Bell Helicopter Textron Canada: Amendment 39-12443. Docket No. 2001-SW-29-AD.

Applicability: Model 206L-4, 407, and 427 helicopters, with engine-to-transmission driveshaft assembly (driveshaft), part number 206-340-300-105, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent failure of a driveshaft, loss of drive to the main rotor system, and a subsequent emergency forced landing, accomplish the following:

(a) If a driveshaft has ever been installed on a Bell Helicopter Textron Canada (BHTC) Model 407 helicopter, within 25 hours time-in-service (TIS) for driveshafts with 1000 or more hours TIS and for driveshafts with 1000 or less hours TIS that have been removed or installed since helicopter delivery, and within 300 hours TIS for driveshafts with less than 1000 hours TIS that have never been removed or installed since helicopter delivery:

(1) Visually inspect each driveshaft for a crack, loose bolt or nut, or red powder residue, in accordance with the Accomplishment Instructions, paragraphs 1 through 7 of Bell Helicopter Textron Alert Service Bulletin 407-01-43, dated June 8, 2001 (ASB).

(2) Before further flight, if a crack, a loose bolt or nut, or red powder residue is found, replace the driveshaft with an airworthy driveshaft.

(i) If a crack, a loose bolt or nut, or red powder residue is found, notify the Manager, Regulations Group, FAA, Rotorcraft Directorate, Fort Worth, Texas 76193-0111, of the helicopter serial number, driveshaft serial number, and driveshaft hours TIS within 10 days.

(ii) Reporting requirements have been approved by the Office of Management and Budget and assigned OMB control number 2120-0056.

(b) After the effective date of this AD, interchanging a driveshaft between different helicopter models is prohibited if that driveshaft has ever been installed on a BHTC Model 407 helicopter.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Manager, Regulations Group.

(d) Special flight permits may be issued in accordance with 14 CFR 21.197 and 21.199 to operate the helicopter to a location where the requirements of this AD can be accomplished.

(e) The visual inspection shall be done in accordance with the Accomplishment Instructions, paragraphs 1 through 7 of Bell Helicopter Textron Alert Service Bulletin 407-01-43, dated June 8, 2001. This incorporation by reference was approved by the Director of the Federal Register in accordance with 5 U.S.C. 552(a) and 1 CFR part 51. Copies may be obtained from Bell Helicopter Textron Canada, 12,800 Rue de l'Avenir,Mirabel, Quebec J7J1R4, telephone (450) 437-2862 or (800) 363-8023, fax (450) 433-0272, or by e-mailing a request to pselight@bellhelicopter.textron.com. Copies may be inspected at the FAA, Office of the Regional Counsel, Southwest Region, 2601 Meacham Blvd., Room 663, Fort Worth, Texas; or at the Office of the Federal Register, 800 North Capitol Street, NW., suite 700, Washington, DC.

(f) This amendment becomes effective on October 9, 2001, to all persons except those persons to whom it was made immediately effective by Emergency AD 2001-13-51, issued June 27, 2001, which contained the requirements of this amendment.

Note 3: The subject of this AD is addressed in Transport Canada (Canada) AD CF-2001-24, dated June 11, 2001.

Issued in Fort Worth, Texas, on September 12, 2001.
Eric Bries,
Acting Manager, Rotorcraft Directorate, Aircraft Certification Service.

[FR Doc. 01-23416 Filed 9-20-01; 8:45 am]

BILLING CODE 4910-13-P